DEPARTMENT OF HEALTH AND HUMAN SERVICES

Meeting of the Advisory Group on Prevention, Health Promotion, and Integrative and Public Health

AGENCY: Department of Health and Human Services, Office of the Secretary, Office of the Assistant Secretary for Health, Office of the Surgeon General of the United States Public Health Service.

ACTION: Notice.

SUMMARY: In accordance with Section 10(a) of the Federal Advisory Committee Act, Public Law 92-463, as amended (5 U.S.C. App.), notice is hereby given that a Web meeting is scheduled to be held for the Advisory Group on Prevention, Health Promotion, and Integrative and Public Health (the “Advisory Group”). The Web meeting will be open to the public. Information about the Advisory Group and the agenda for this meeting can be obtained by accessing the following Web site: http://www.healthcare.gov/prevention/nphpphc/advisorygrp/index.html

DATES: The meeting will be held on November 21, 2011, 3 p.m. to 5 p.m.

ADDRESSES: The meeting will be held online via WebEx software. For detailed instructions about how to make sure that your windows computer and browser is set up for WebEx and to register for the meeting, please email the designated contact at prevention.council@hhs.gov.

FOR FURTHER INFORMATION CONTACT: Office of the Surgeon General, 200 Independence Ave. SW., Hubert H. Humphrey Building, Room 701H, Washington, DC 20001; (202) 205-9517; prevention.council@hhs.gov.

SUPPLEMENTARY INFORMATION: On June 10, 2010, the President issued Executive Order 13544 to comply with the statutes under Section 4001 of the Patient Protection and Affordable Care Act, Public Law 111-148. This legislation mandated that the Advisory Group was to be established within the Department of Health and Human Services. The charter for the Advisory Group was established by the Secretary of Health and Human Services on June 23, 2010; the charter was filed with the appropriate Congressional committees and Library of Congress on June 24, 2010. The Advisory Group has been established as a non-discretionary Federal advisory committee.

The Advisory Group has been established to provide recommendations and advice to the National Prevention, Health Promotion and Public Health (the “Council”). The Advisory Group shall provide assistance to the Council in carrying out its mission.

The Advisory Group membership shall consist of not more than 25 non-Federal members to be appointed by the President. The membership shall include a diverse group of licensed health professionals, including integrative health practitioners who have expertise in (1) Worksite health promotion; (2) community services, including community health centers; (3) preventive medicine; (4) health coaching; (5) public health education; (6) geriatrics; and (7) rehabilitation medicine. There are currently 17 members of the Advisory Group. This will be the fourth meeting of the Advisory Group.

Public attendance at the Web meeting is limited. Members of the public who wish to attend the Web meeting must register by 12 p.m. EST November 17, 2011. Individuals should notify the designated contact to register for public attendance at prevention.council@hhs.gov. Individuals who plan to attend the Web meeting and need special assistance and/or accommodations should notify the designated contact for the Advisory Group. The public will have opportunity to provide electronic written comments to the Advisory Group on November 21, 2011 during the Web meeting. Any member of the public who wishes to have printed material distributed to the Advisory Group for this scheduled Web meeting should submit material to the designated point of contact for the Advisory Group no later than 12 p.m. EST November 10, 2011.

Dated: October 24, 2011.
Corinne M. Graffunder,
Acting Designated Federal Officer, Office of the Surgeon General, Advisory Group on Prevention, Health Promotion, and Integrative and Public Health.

[FR Doc. 2011-28422 Filed 11-1-11; 8:45 am]

BILLING CODE 4163-18-P